DEPARTMENT OF TRANSPORTATION

National Highway Traffic Safety Administration

Child Passenger Protection Education Grants

AGENCY: National Highway Traffic Safety Administration, DOT.

ACTION: Announcement of grants for child passenger protection education.

SUMMARY: The National Highway Traffic Safety Administration (NHTSA) announces a grant program under Section 2003(b) of the Transportation Equity Act for the 21st Century (TEA-21) to implement child passenger protection programs that are designed to prevent deaths and injuries to children, educate the public concerning the proper installation of child restraints, and train child passenger safety personnel concerning child restraint use. This notice solicits applications from the States, the District of Columbia, Puerto Rico, the U.S. Territories and the Indian Tribes through the Secretary of the Interior.

DATES: Applications must be received by the office designated below on or before July 9, 2003.

ADDRESSES: Applications must be submitted to the appropriate National Highway Traffic Safety Administration Regional Administrator.

FOR FURTHER INFORMATION CONTACT: For program issues contact Ms. Judy A. Hammond, Office of Injury Control Operations and Resources, NTI-200, NHTSA, 400 Seventh Street, SW., Washington, DC 20590; telephone (202) 366-2121. For legal issues contact Ms. Dana Sade, Office of the Chief Counsel, NCC-110, NHTSA, 400 Seventh Street, SW., Washington, DC 20590, telephone (202) 366-2580.

SUPPLEMENTARY INFORMATION:

Background

While motor vehicle crashes remain the leading cause of unintentional injury-related deaths among children for every age from 1 to 14 years in the United States, there has been a 16 percent decline in motor vehicle occupant deaths from 1988 to 2001. During the same period, motor vehicle occupant nonfatally injured children under age 15 decreased by 11 percent. The Nation is reaping the benefits of the many years of hard work by State and local advocates promoting correct use of child safety seats, booster seats and safety belts. A valuable cadre of trained and certified child passenger safety technicians has been established in all 50 States, the District of Columbia, and Puerto Rico to promote the correct use of these occupant protection devices. To maintain the gains, it is essential that this child passenger safety infrastructure be sustained.

For this fourth year of the program, States are encouraged to perform a program review and comprehensive evaluation of the existing infrastructure to help them strategically place limited resources to meet their unique needs, and to ensure that the needs of culturally diverse and underserved populations, special needs and booster seat size/age children are appropriately addressed.

Motor vehicle injuries and fatalities occur when children ride unrestrained or are improperly restrained. The Child Passenger Protection Education grant program is intended to help reduce injuries and deaths by educating the public about the importance of correctly installing and using child safety seats, booster seats and safety belts.

1. Children Riding Unrestrained

Approximately 20-25 percent of children ages 1 through 15 years ride unrestrained. Child safety seats reduce the risk of fatal injury in a crash by 71 percent for infants (less than 1 year old) and by 54 percent for toddlers (1-4 years old). In 2001, there were 497 passenger vehicle occupant fatalities among children under 5 years of age. Of those 497 fatalities, where restraint use is known, 242 (49 percent) were totally unrestrained. The problem of riding unrestrained is not limited to infants and young children. From 1975 through 2001, the lives of an estimated 5,085 children were saved by the use of child restraints (child safety seats or adult safety belts). In 2001, among children under age 15 who were killed as occupants of passenger vehicles, where restraint use was known, 55 percent were not using safety restraints at the time of the collision.

Examination of the demographics of children killed in motor vehicle crashes (for which the most complete data available is 1999) shows that safety restraint use differs markedly by race. For example, while somewhat less than half (46.5 percent) of white children up to age 9 riding in passenger motor vehicles were using safety restraints at the time of their deaths, that was true of less than one-third (30.4 percent) of black children. Native American children under age 15 have a motor vehicle occupant death rate twice that of white children. (Injury and fatality data for other minority groups is currently being collected.) Restraint use is also lower in rural areas and low-income communities. Lack of access to affordable child safety seats and booster seats contributes to a lower usage rate among low-income families. However, research shows that 95 percent of low-income families who own a child safety seat use it. Improving access to affordable child restraint systems and educating parents and caregivers about proper installation and use are key components to improving use rates in these communities.

2. Misuse of Child Safety Seats and Improper Seating Positions

According to the National Occupant Protection Use Survey, in 2002, 99 percent of infants (children under age 1) were restrained while riding in motor vehicles, as were 94 percent of toddlers (children ages 1 through 3). The study also revealed that 83 percent of children ages 4 through 7 were restrained. However, it is estimated that approximately 80 percent of children who are placed in child safety seats are improperly restrained. Furthermore, adult safety belts do not adequately protect children ages 4 to 8 (about 40 to 80 pounds) from injury in a crash. Although car booster seats are the best way to protect them, only 6 percent of booster-age children are properly restrained in car booster seats.

In addition, there is a high risk of severe injury or fatality to children riding in the front seat of vehicles equipped with a passenger side air bag, due to the deployment force of the air bag. However, even if the air bag is shut off or there is no air bag, the back seat is the safest place for children to ride. Under no circumstances should a parent place a rear-facing infant seat in front of an air bag. It is estimated that children ages 12 and under are 36 percent less likely to die in a crash if seated in the rear seat of a passenger vehicle.

Furthermore, children are not cargo; they should not ride in the rear of pickup trucks. In 2001, 128 people died as a result of riding in the cargo area of pickup trucks. Nearly half of these were children and teenagers.

Children with special health care needs are another area of growing concern. Approximately 12 million children under 18 are in this category and many have special transportation needs that need to be addressed.

Child passenger safety professionals, educators, emergency personnel and others need to be adequately trained on all aspects of child restraint use in order to help reduce the problems of misuse and encourage the safest seating positions for all children riding in motor vehicles. In addition, parents and caregivers need easily accessible locations where they can receive information on choosing the correct child safety seat for their child, and identifying which child safety seats are compatible with various types of passenger motor vehicles. Parents and caregivers also need to know how to properly install a child safety seat, how to properly secure their child into that seat, and that the safest position in a vehicle is the back seat, away from front passenger air bags and not in the cargo area of pick-up trucks.

With these concerns in mind, the Transportation Equity Act for the 21st Century (TEA-21), which the President signed into law on June 9, 1998, established a grant program under Section 2003(b), to promote child passenger protection education and training and authorized $7.5 million each year for fiscal years 2000 and 2001. In the DOT Appropriation Act of 2002, Congress provided $7.5 million to fund the Child Passenger Protection Education grant program for fiscal year 2002. For FY 2003, Congress again provided $7.5 million to fund the Child Passenger Protection Education Grants.

Grants for Child Passenger Protection

Section 2003(b) provides Federal funds to States for activities that are designed to prevent deaths and injuries to children; educate the public concerning the design, selection, placement, and installation of child restraints; and train and retrain child passenger safety professionals, police officers, fire and emergency medical personnel, and other educators concerning all aspects of child restraint use. A State may expend the funds itself or elect to distribute some or all of the funds to carry out the public education and training activities as grants to political subdivisions of the State or appropriate private entities.

Prior years funding (FY 2000 and 2001) has resulted in over 16,056 persons becoming certified child passenger safety technicians by the AAA after having completed NHTSA's 32-hour Standardized Child Passenger Safety Training course. In addition, 593 went on to become certified child passenger safety technician instructors. Funding has provided for the establishment of 900 inspection/fitting stations across the country.

Given administrative, programmatic, and funding considerations facing the States, NHTSA is working with the Governors Highway Safety Association (GHSA) to develop a Child Passenger Safety Program Assessment tool designed to help the States strategically plan and locate their child passenger safety trainings, education efforts, and inspection stations to meet the needs of the community.

A “team” of peers will review all elements of the State's Child Passenger Safety program and how training strategically fits into their overall program. The assessment will examine many aspects including: Does the child passenger safety program effectively address older children (booster seat and safety belt size/age); special needs; culturally diverse and underserved populations; does it effectively cover all areas of the State with training, public education and information; and, are inspection stations established across the State. The assessment tool should be ready for use in Fall 2003. States are strongly encouraged to use Section 2003(b) funds to pay for conducting the assessment.

States are also encouraged to direct funds obtained through this grant program to organizations that can deliver training and education to ensure positive impact in minority and low-income communities where lack of child passenger protection is especially severe.

Funds could also be used for training on the appropriate methods for restraining children with special needs in motor vehicles.

Section 2003(b) provides that the Federal share of the cost of a program carried out with the grant funds is not to exceed 80 percent. A State that receives a grant must submit a report describing the program activities carried out with the funds.

Application Procedures

1. Use of Funds

To be eligible for funding under Section 2003(b), a State must submit an application that addresses how the State will implement child passenger protection programs that meet each of the three requirements listed below (see checklist below). For the education and training components, the grant application must identify expected program accomplishments, such as the estimated number of public education messages to be distributed (e.g. public service announcements or printed materials) and the type of audience to be targeted by these messages (e.g. minority or low-income communities); the estimated number and type of training classes conducted and the individuals or groups to be trained (e.g. representing minority, rural or low-income communities); the number of child safety seat clinics or check-ups performed; and the number of inspection stations established. A State is encouraged to identify the proposed locations of child safety seat clinics, check-ups and inspection stations, specifying the target population to be served.

Specifically, the State must implement a child passenger protection program that:

(a) Is designed to prevent deaths and injuries to children. The State should provide a statement describing how its program supports efforts to prevent deaths and injuries to children, and indicate if it plans to conduct a program assessment;

(b) Educates the public on all aspects of child passenger safety. The public education program may include strategies that emphasize the four steps to child restraint use: infant seats for babies, forward facing child safety seats for toddlers, booster seats for young children, and safety belts for older children. It should include strategies that increase use of appropriate restraints and proper seating positions among targeted populations (e.g., minority, rural, low-income, or special needs populations), or develop and implement child safety seat clinics and/or permanent locations where consumers can have child safety seats and booster seats inspected. Additional information under public education may be included relevant to proper use of child restraint systems, booster seats, proper seating positions relative to air bag safety and cargo areas of pick-up trucks, and Federal Motor Vehicle Safety Standard 225—a standardized child safety seat system known as Lower Anchors and Tethers for Children (LATCH).

At a minimum, the public education program must:

(1) Provide a summary of the information that the State intends to include or develop in the public education program. The information must address at least the following topics:

• All aspects of proper installation of child restraints using standard safety hardware, supplemental hardware, and modification devices (if needed), including special installation techniques;

• Appropriate child restraint design, selection, and placement [NHTSA interprets this to include instruction about proper seating positions for children in air bag equipped vehicles]; and

• Harness threading and harness adjustment on child restraints.

(2) Include a description of the public education information methods that the State intends to employ, how these messages will be delivered to the target population, and expected accomplishments. The methods could include billboards, public service announcements, and published materials. It is also important to deliver this information in the language of the targeted group.

(c) Trains and retrains child passenger safety professionals, police officers, fire and emergency medical personnel, and other educators concerning all aspects of child restraint use. At a minimum, States should include in the application a description of or reference to the curricula that the State will use to train and retrain child passenger safety experts to reach the targeted populations; factors used to determine appropriate coverage and support to meet the needs of the community and expected accomplishments.

All persons selected for training and retraining as child passenger safety professionals should achieve and maintain at least some minimum standards of expertise. In collaboration with partners, NHTSA has developed several model curricula including: “Mobilizing America to Buckle Up Children” and “Operation Kids” for law enforcement officers; “Operation Kids” for nurses; “Moving Kids Safely In Child Care” and the “Standardized Child Passenger Safety Training Program” for child passenger safety professional candidates. States are not restricted to using only these curricula, but States are encouraged to incorporate the learning objectives of these courses into the training and retraining provided to child passenger safety experts. Funding for this grant program is intended to help States develop and sustain adequate cadres of persons with technical expertise in child passenger protection who will directly serve the public through child safety seat clinics, checkpoints, workshops, inspection stations and other training and educational opportunities.

The State shall include in the budget for FY 2003 grant funds information on prior-year Section 2003(b) grant funds. Specifically, the State shall itemize how much of these prior year funds have not yet been expended and how they will support the FY 2003 program.

2. Certification

A. The State must submit certifications that: (i) It will use the funds awarded under this grant program exclusively to implement a child passenger protection program in accordance with the requirements of Section 2003(b) of Pub. L. 105-178 (TEA-21); (ii) It will administer the funds in accordance with 49 CFR part 18; and (iii) It will provide to the NHTSA Regional Administrator no later than 15 months after the grant award a report of activities carried out with grant funds and accomplishments to date.

3. Eligibility Requirements

Eligibility is limited to the 50 States, the District of Columbia, Puerto Rico, the U.S. Territories (which include the Virgin Islands, Guam, American Samoa and the Commonwealth of the Northern Mariana Islands) through their Governor's Office of Highway Safety, and Indian Tribes through the Secretary of the Interior.

Award Procedures

The amount appropriated for this program in fiscal year 2003 is $7,500,000. In FY 2000, NHTSA awarded $7.5 million to 47 States, the District of Columbia, Puerto Rico, 4 U.S. Territories and the Indian Nations. In FY 2001, NHTSA awarded $7.5 million to 48 States, the District of Columbia, Puerto Rico, 4 U.S. Territories and the Indian Nations. In FY 2002, NHTSA awarded $7.5 million to 48 States, the District of Columbia, Puerto Rico, 4 U.S. Territories and the Indian Nations. A new application is required to seek an award for fiscal year 2003 funds. Awards to applicants meeting the requirements of this notice will be made based upon the formula used for Section 402 apportionment, subject to the availability of funds. The amount awarded to each State qualifying under this program shall be determined by multiplying the amount appropriated for this grant program for the fiscal year by the ratio that the amount of funds apportioned to each such State under 23 U.S.C. 402 for the fiscal year bears to the total amount of funds apportioned to all such States under Section 402 for such fiscal year. Applicants will be required to submit to NHTSA within 30 days of notification that an award is made, a program cost summary (HS Form 217) obligating the Section 2003(b) funds to child passenger protection education programs. The Federal funding share may not exceed 80 percent of the program cost, and States should clearly identify their share in the program cost summary (HS Form 217).

Each State must submit one original and two copies of the application package to the appropriate NHTSA Regional Administrator. Only complete application packages submitted by a Governor's Highway Safety Representative and received on or before July 9, 2003, will be considered for funding in fiscal year 2003.

Report Requirements

A State that receives a grant must submit a report describing the activities carried out with the grant funds and the accomplishments to date. The report must be submitted to the NHTSA Regional Administrator no later than 15 months after the grant is awarded.

At a minimum, the report must contain the following:

1. A description of how the State's child passenger protection program is supporting efforts to prevent deaths and injuries to children through strategic placement of resources.

2. For the education component:

• A summary of the public education methods developed and how programs were delivered to the targeted population.

• The number of public education messages distributed (e.g. public service announcements or printed materials) and the type of audience targeted by those messages (e.g. minority or low-income communities);

• The number of child safety seat clinics or check-ups performed, and the number of inspection stations established. A State must also include the locations of child safety seat clinics, check-ups and inspection stations, specifying the target population served.

3. For the training component:

• The number of and type of training classes conducted and the individuals or groups trained (e.g. representing minority, rural or low-income communities);

• A description of or reference to the curricula that were used to train and retrain child passenger safety experts.

• The number of child passenger safety technicians and instructors certified during the grant period.

FY 2003 Application Checklist
1. | 1.
A.__ | A. Statement describing how the program supports efforts to prevent deaths and injuries to children.
B.__ | B. Statement indicating its plans to conduct a program assessment.
2. | 2. Educates the public on all aspects of child passenger safety (CPS). At a minimum this must include the following:
A. | A. Summary of what the public education information will cover, to include:
(1)__ | (1) All aspects of proper installation of child restraints using standard seat belt hardware, supplemental hardware, and modification devices (if needed), including special installation techniques.
2.__ | (2) Appropriate child restraint design, selection, and placement [NHTSA interprets this to include instruction about proper seating positions for children in air bag equipped vehicles.]
(3)__ | (3) Harness threading and harness adjustment on child restraints.
B. | B. Methods to deliver public education messages must include:
(1)__ | (1) Description of the public education method.
(2)__ | (2) How these messages will be delivered to the targeted populations.
(3)__ | (3) Expected accomplishments in reaching audiences, including those in underserved areas.
3. | 3. CPS Training and retraining. At a minimum, this must include the following:
A.__ | A. Description of or reference to the CPS curricula that the State will use to train and retrain CPS experts to ensure appropriate and adequate coverage and support for the program.
B.__ | B. Expected accomplishments.
C.__ | C. Description of how the State plans to reprogram its unexpended Section 2003(b) funds to support this year's program.
4.__ | 4. Certification Statement
| The State must submit certifications that (i) It will use the funds awarded under this grant program exclusively to implement a child passenger protection program in accordance with the requirements of 23 U.S.C. 2003(b); (ii) It will administer the funds in accordance with 49 CFR Part 18 and OMB Circular A-87; and (iii) It will provide to the NHTSA Regional Administrator no later than 15 months after the grant award a report of activities carried out with grant funds and accomplishments to date.

NHTSA Publications Available To Support Public Education

A number of NHTSA publications are available through the Traffic Safety Materials Catalog that address child passenger safety program topics, including targeted education messages such as “Four Steps for Kids;” and “Sálvele la Vida a Su Bebé.” These materials may be ordered from the NHTSA web site at http://www.nhtsa.dot.gov or contacting the Office of Communications and Consumer Information by fax at (202) 493-2062.

Issued on: May 29, 2003.
Jeffrey W. Runge,
Administrator, National Highway Traffic Safety Administration.

[FR Doc. 03-13902 Filed 6-2-03; 8:45 am]

BILLING CODE 4910-59-P